OFFICE OF NATIONAL DRUG CONTROL POLICY

Final Information Quality Guidelines and Discussion of Comments

AGENCY: Office of National Drug Control Policy.

ACTION: Publication of final Information Quality Guidelines and discussion of comments.

SUMMARY: The Office of National Drug Control Policy (ONDCP) is publishing its final Information Quality Guidelines. These Information Quality Guidelines describe ONDCP's predissemination information quality control and an administrative mechanism for requests for correction of information publicly disseminated by ONDCP. The Information Quality Guidelines are also posted on ONDCP's Web site: http://www.whitehousedrugpolicy.gov.

DATES: ONDCP's predissemination review applies to information first disseminated by ONDCP on or after October 1, 2002. ONDCP's administrative mechanism for correcting information that ONDCP disseminates applies to information that ONDCP disseminates on or after October 1, 2002, regardless of when ONDCP first disseminated the information.

FOR FURTHER INFORMATION CONTACT: Dr. Terry S. Zobeck of the Office of Planning and Budget, Office of National Drug Control Policy (ONDCP), Washington, DC 20503. Telephone (202) 395-6700 or e-mail to: ondcp.info.guide@ncjrs.org.

SUPPLEMENTARY INFORMATION: The Office of National Drug Control Policy publishes these final guidelines in accordance with the Guidelines for Ensuring and Maximizing the Quality, Objectivity, Utility, and Integrity of Information Disseminated by Federal Agencies (“Government-wide Guidelines”) published in interim final form by OMB in the Federal Register in Volume 66, No. 189 at 49718 on Friday, September 28, 2001, and in final form in Volume 2, No. 67 at 8452 on February 22, 2002. These published guidelines were issued pursuant to section 515 of the Treasury and General Government Appropriations Act for FY2001 (Pub. L. 106-554; HR 5658).

ONDCP published a notice of availability for proposed information quality guidelines in the Federal Register on June 6, 2002 (67 FR 38959). ONDCP amended its proposed guidelines to reflect guidance provided to all the agencies in a Memorandum from John D. Graham for the President's Management Council, “Agency Draft Information Quality Guidelines” (June 10, 2002) (“June 10 Memorandum”) and a Memorandum from John D. Graham to the President's Management Council, “Agency Final Information Quality Guidelines” (September 5, 2002) (“September 5 Memorandum”). These memoranda are available on OMB's Web site: http://www.whitehouse.gov/omb/inforeg/infopoltech.html. ONDCP also received public comments from two non-governmental organizations, Citizens for Sensible Safeguards and the Center for Regulatory Effectiveness which were helpful in clarifying ONDCP's guidelines. A summary of significant amendments to the proposed guidelines follow, in order of the text, followed by ONDCP's discussion of specific comments received and ONDCP's final Information Quality Guidelines.

Summary of Significant Amendments

In the introductory paragraph to these guidelines, ONDCP establishes these guidelines as its performance standard, as called for at page 7 of the June 10 Memorandum.

In a new paragraph I.A.6, ONDCP adds more specific language involving the dissemination of influential scientific, financial, or statistical information. (See June 10 Memorandum, page 9; Government-wide Guidelines, paragraph V.b.ii.B).

ONDCP clarified its predissemination review procedures in renumbered paragraph I.A.7.

In a new paragraph I.A.9, ONDCP links its clearance of proposed collections of information under the Paperwork Reduction Act with ongoing implementation of these information quality guidelines (See June 10 Memorandum, p. 10).

In paragraph II.1, ONDCP stresses that the person seeking correction of information has the burden of proof with respect to the necessity for correction as well as with respect to the type of correction requested. (See June 10 Memorandum, page 11). In addition, ONDCP adds a description of the kinds of information that a person seeking correction of information needs to provide to help meet that burden of proof.

In paragraph II.9, ONDCP points out that if it needs to extend the time it will take to notify the person seeking correction, it will provide a reasoned basis for the extension and an estimated decision date. (See September 5 Memorandum, Appendix, topic (3)).

In a new paragraph II.10, ONDCP adds a provision stating that requests for correction of information will be considered, in cases where ONDCP disseminates information for public comment, prior to disseminating the final ONDCP product if (1) an earlier response would not unduly delay dissemination of the ONDCP product; and (2) the requestor had shown a reasonable likelihood of suffering actual harm from the dissemination if the correction were not made until dissemination of the final ONDCP product. (See September 5 Memorandum, Appendix, topic (2)).

In paragraph III.3, ONDCP points out that if it needs to extend the time it will take to notify the person seeking reconsideration of an ONDCP response to a request for correction, it will provide a reasoned basis for the extension and an estimated decision date. (See September 5 Memorandum, Appendix, topic (3)).

In paragraph IV.2, ONDCP modifies the exemption for a press release to provide that the information in the press release has been previously disseminated by ONDCP or another Federal agency in compliance with the Government-wide Guidelines or the these ONDCP guidelines. (See June 10 Memorandum, page 4).

In paragraph IV.4, ONDCP deletes from the exclusion from the definition of “information” the provision referring to statements that may reasonably be expected to become the subject of litigation. (See June 10 Memorandum, page 5).

Otherwise, the ONDCP amendments were technical and conforming textual edits, designed to clarify the ONDCP guidelines and conform them to the Government-wide Guidelines.

Discussion of Comments

ONDCP received lengthy comments from two organizations: Citizens for Sensible Safeguards (CSS) and the Center for Regulatory Effectiveness (CRE). The comments are summarized below followed by ONDCP's discussion of each comment.

General Comments

CSS commented that ONDCP's Information Quality Guidelines should not inhibit public access to government information nor interfere with existing rulemaking processes. ONDCP Agrees.

CSS commented that the Data Quality Act does not alter the substantive mandates and primary missions of ONDCP. ONDCP Agrees.

Regarding interpretation and implementation of the Data Quality Act, both CSS and CRE submitted comment. CSS commented that OMB's guidance goes beyond what is statutorily required and that ONDCP should look beyond OMB guidelines to the Data Quality Act itself in determining the scope and components of its guidelines. CRE advocated that OMB does not have discretion to exempt categories of information from implementation of the Data Quality Act. ONDCP's response to both comments is the same: Legislative interpretation is within the discretion of the agency Congress has charged with implementation, in this case, OMB. ONDCP defers to OMB's interpretation and implementation of the Data Quality Act.

CSS commented that ONDCP should consider the benefits of timely dissemination in carrying out its core mission. While this comment exceeds the scope of ONDCP's proposed Information Quality Guidelines, ONDCP does value timely dissemination of information in carrying out its core mission.

CSS commented that ONDCP should retain maximum flexibility in implementing guidelines and err on side of the public's right to know. ONDCP agrees and feels that its final guidelines strike the proper balance between the public's right to know and flexibility in implementation that ONDCP has retained.

CRE commented that ONDCP should adopt data quality as a Performance Goal in its Performance Plan under the Government Performance and Results Act. ONDCP has adopted data quality as a Performance Goal as reflected in the introduction to its final Information Quality Guidelines.

CRE commented that ONDCP's guidelines must comply with OMB's interagency Data Quality guidelines. ONDCP has adopted OMB's guidelines.

Both CSS and CRE commented that ONDCP should be required to correct information disseminations covered by its guidelines. ONDCP agrees as provided in section II paragraphs 6 though 10 of its final guidelines.

CSS commented that ONDCP should include a statement to the effect that its guidelines are not judicially reviewable and do not provide any new adjudicatory authority. ONDCP has included a statement in section IV paragraph 2 of its final guidelines, which states: These guidelines do not impose any additional requirements on agencies during adjudicative proceedings and do not provide parties to such adjudicative proceedings any additional rights of challenge or appeal.

Comments Regarding Information Reliability

CSS commented that ONDCP should further build mechanisms into the data collection process that flag errors before data is submitted to ONDCP. ONDCP's final guidelines do include processes to verify data it receives from other sources in section I part A. Paragraph A.1. states “ONDCP is committed to disseminating reliable and useful information. Before disseminating information, ONDCP staff and officials should subject such draft information to an extensive review process. It is the primary responsibility of the particular ONDCP Office (hereafter collectively referred to as “Lead Component”) drafting information intended for dissemination to pursue the most knowledgeable and reliable sources reasonably available to confirm the objectivity and utility of such information.” Paragraph A.2. continues “Much of the information ONDCP disseminates consists of or is based on information submitted to ONDCP by other Federal Government Agencies. ONDCP expects that agencies will subject information submitted to ONDCP for purposes of public dissemination to adequate quality control measures. In drafting the material to be disseminated, the Lead Component should review and verify the data submitted by the agencies, as necessary and appropriate. ONDCP also originates information based on research, assessments, and other efforts supporting drug policy development. The Lead Component should review and verify the data, as necessary and appropriate. * * * Each Component that disseminates information should maintain verification files of materials that it originates.” Section I.A. concludes, stating: “ONDCP will maximize the quality of information it disseminates, in terms of objectivity and utility, first by looking for input from a range of sources and perspectives, to the extent practicable under the circumstances, and second by subjecting draft materials to a review process involving as many Components and offices as may be in a position to offer constructive input, as well as other offices within the Executive Office of the President and other government agencies.”

CRE commented that ONDCP's guidelines should exclude bias from risk assessment. ONDCP does not perform risk assessment. ONDCP has therefore adopted OMB's guidelines defining “objectivity” to mean that information be “unbiased” without reference to elimination of bias in risk assessment.

Both CSS and CRE submitted comments regarding adoption of the science quality and risk assessment standards contained in the Safe Drinking Water Act. CRE advocated that ONDCP's guidelines should adopt the science quality and risk assessment standards contained in the 1996 amendments to the Safe Drinking Water Act, while CSS expressed three cautions regarding the use of peer review in relation to risk assessment consistent with the Safe Drinking Water Act. ONDCP's final guidelines do not address the Safe Drinking Water Act or risk assessment because ONDCP does not perform risk assessment.

CRE commented that ONDCP's guidelines should adopt the requirement contained in OMB's guidelines of robustness checks for data, models, or other information that ONDCP cannot disclose, but which are material to information ONDCP does disclose. ONDCP has adopted OMB's guidelines as reflected in section I, paragraph A. 6 of its final guidelines.

CRE commented that ONDCP's guidelines should generally prohibit the use of third-party proprietary models, unless no other option is available and OMB concurs. When no other option is available, CRE advocates that ONDCP's guidelines should explain in detail what “especially rigorous robustness checks” will be applied to third-party proprietary models and explain how the public will be notified of, and permitted to comment upon, these “robustness checks”. Section I paragraph 5 of ONDCP's final guidelines adopt OMB's requirement that influential scientific information be reproducible. Section I paragraph 5 also provides that “In situations where public access to the data will not occur, the Lead Component should apply especially rigorous robustness checks and document what checks were undertaken”.

Comments Regarding Coverage of Guidelines

CRE commented that ONDCP's guidelines must apply to information being disseminated on or after October 1, regardless of when the information was first disseminated as explicitly enumerated in OMB's guidelines. ONDCP has adopted OMB's guideline.

CSS commented that ONDCP should detail and expand on the types of information and methods of dissemination that are not covered by its guidelines. ONDCP agrees as reflected in its final guidelines in section IV paragraph 2 defining “Dissemination” and paragraph 4 defining “Information”.

CRE commented that ONDCP's guidelines should not exclude rulemaking records. ONDCP's guidelines do not exclude rulemaking records.

Both CSS and CRE commented regarding third party information submitted to ONDCP. CSS commented that ONDCP should clearly state that its guidelines apply only to information disseminated by ONDCP and not when ONDCP is merely acting as a conduit of information. CRE advocated that when ONDCP uses, relies on, or endorses third party information, the agency itself should have the burden of ensuring that the information meets the quality, objectivity, utility, and integrity standards required by its data quality guidelines. ONDCP agrees as reflected in section IV paragraph 2 of its final guidelines: “Dissemination does not include the pass-through of public filings or other information received from third-parties by ONDCP and made available for public review through website posting or other means, without ONDCP's official endorsement of its content. However, these guidelines may apply to third-party information adopted or endorsed by ONDCP, or used to formulate guidance or other ONDCP decision or position”.

CRE commented that ONDCP's guidelines should use OMB's definition of “affected persons”. ONDCP has adopted OMB's definition in section IV.

Both CSS and CRE commented regarding the definition of “influential”. CSS advocated that ONDCP narrowly define “influential information”, employing a high threshold for coverage.

CRE advocated that ONDCP should adopt the definition of “influential” contained in OMB's guidelines. ONDCP's final guidelines adopt OMB's definition of “influential” in section IV paragraph 3.

Comments Regarding Requests for Correction

CRE commented that ONDCP's guidelines should set an appropriate, specific timeframe for agency decisions on information correction petitions. ONDCP's final guidelines provide a 60 day timeframe in section II paragraphs 5, 8, and 9.

CRE commented that ONDCP's guidelines should specify a party responsible for acting on information correction petitions. ONDCP's agrees and specifies the Chief of Staff or their designee in section II of its final guidelines.

CSS commented that ONDCP should clearly state that the burden of proof lies squarely with the requester. ONDCP agrees and has explicitly stated that in section II paragraph 1 of its final guidelines.

CRE commented that ONDCP should adopt OMB's guidelines providing that the presumption of objectivity is rebuttable “based on a persuasive showing by a petitioner in a particular instance.” ONDCP agrees and has adopted OMB's guidelines as reflected in section II paragraph 1 of its final guidelines providing that the petitioner bears the burden of proof and 1(d) providing that the requester submit all supporting evidence which the petitioner believes provides a persuasive case.

CSS commented that ONDCP should explicitly state that the administrative mechanism will not consider interpretations of data and information, or requests for de-publishing. ONDCP agrees that its guidelines should not allow requests for correction that challenge the interpretation of data and information, or seek de-publishing. However such requests are not within the definitions contained in ONDCP's final guidelines and therefore do not require an explicit statement excluding them. See section IV paragraph 4 of the final guidelines excluding from the definition of “information”: opinions or policy; statements of Administration policy; and testimony or comments of ONDCP officials.

CSS commented that ONDCP should limit complaints under its administrative mechanisms to information that is not already subject to existing data quality programs and measures. ONDCP agrees and has reflected that in section IV paragraph 2.e. of its final guidelines.

CSS commented that ONDCP should state that frivolous or duplicative requests may be rejected. ONDCP agrees and has reflected that in section III paragraph 1 of its final guidelines.

CSS commented that ONDCP should establish a timeliness requirement for requests after which it has the option to reject a request. ONDCP's final guidelines retain ONDCP's discretion to consider the timeliness of requests as part of its review of (a.) the significance of the information involved and (b.) the nature and extent of the request and public benefit of making the requested correction as set out in section II paragraph 7.

CSS commented that ONDCP should limit complaints for any data quality standard that presents a potential moving target (i.e. “best available evidence”) to information available at the time of dissemination. ONDCP has adopted OMB's guidelines.

Comments Regarding ONDCP Response To Requests for Correction

CSS commented that ONDCP's guidelines should specifically state that responses to correction requests will be proportional to the significance and importance of the information in question. ONDCP agrees as reflected in section II. Paragraph 7 states “When considering covered requests to determine whether a corrective action is appropriate, the reviewing Component may consider the following factors: (a.) The significance of the information involved, and (b.) the nature and extent of the request and the public benefit of making the requested correction. Paragraph 9 states “Subject to applicable law, rules and regulations, corrective measures may be taken through a number of forms, including (but not limited to) personal contacts via letter or telephone, form letters, press releases or postings on the ONDCP website * * * to correct a widely disseminated error or address a frequently raised request. Corrective measures, where appropriate, should be designed to provide reasonable notice to affected persons of such correction.”

CSS commented that ONDCP should specify that it will establish a running docket of requests and changes. Consistent with OMB's guidance ONDCP has created a place on its website, www.whitehousedrugpolicy.gov where significant corrections made as a result of ONDCP's correction process will be described.

Comments Regarding ONDCP Reconsideration of Requests for Correction

CRE commented that consistent with OMB's intent, ONDCP's guidelines should include a meaningful appeals process. ONDCP agrees and has adopted OMB's guidelines in section III.

CSS commented that ONDCP's reconsideration process should be fairly informal and limited in scope. ONDCP agrees as reflected in section III of its final guidelines.

CSS commented that ONDCP's reconsideration should be limited to showing due diligence in the initial consideration of a request. ONDCP disagrees. Consistent with OMB's guidance, section III paragraph 3 of ONDCP's final guidelines provide that “ONDCP's Chief of Staff * * * will consider the request for reconsideration, applying the standards and procedures set out in section II above * * *.”

CSS commented that ONDCP should establish a 30-day time limit for requests for reconsideration. ONDCP agrees as reflected in section III paragraph 2 of its final guidelines.

Office of National Drug Control Policy Information Quality Guidelines

The Office of National Drug Control Policy publishes these guidelines in accordance with the Guidelines for Ensuring and Maximizing the Quality, Objectivity, Utility, and Integrity of Information Disseminated by Federal Agencies (“Government-wide Guidelines”) published in interim final form by OMB in the Federal Register in Volume 66, No. 189 at 49718 on Friday, September 28, 2001, and in final form in Volume 2, No. 67 at 8452 on February 22, 2002. These published guidelines were issued pursuant to section 515 of the Treasury and General Government Appropriations Act for FY2001 (Pub. L. 106-554; HR 5658). In response to the legislation and the published guidelines, ONDCP identifies the following policies and procedures for ensuring and maximizing the quality, objectivity, utility, and integrity of information disseminated by ONDCP; and it hereby establishes additional procedures for affected persons to seek and obtain correction of information maintained and disseminated by ONDCP that does not comply with standards set out in the Government-wide Guidelines. These ONDCP guidelines are intended to ensure and maximize the quality of information disseminated by ONDCP. Through these ONDCP guidelines, ONDCP establishes as its performance standard a goal of disseminating reliable and useful information consistent with the Government-wide Guidelines and these ONDCP guidelines.

Section I. Procedures for Ensuring and Maximizing the Quality, Objectivity, Utility, and Integrity of Information Prior to Dissemination

In Government-wide Guidelines, “quality” is defined as an encompassing term comprising utility, objectivity, and integrity.

A. Objectivity and Utility of Information

1. As defined in section IV, below, “objectivity” is a measure of whether disseminated information is “accurate, reliable, and unbiased and that information is presented in an accurate, clear, complete, and unbiased manner;” “utility” refers to the usefulness of the information to its intended audience for the intended audience's anticipated purposes. ONDCP is committed to disseminating reliable and useful information. Before disseminating information, ONDCP staff and officials should subject such draft information to an extensive review process. It is the primary responsibility of the particular ONDCP Office (hereafter collectively referred to as “Lead Component”) drafting information intended for dissemination to pursue the most knowledgeable and reliable sources reasonably available to confirm the objectivity and utility of such information.

2. Much of the information ONDCP disseminates consists of or is based on information submitted to ONDCP by other Federal Government Agencies. ONDCP expects that agencies will subject information submitted to ONDCP for purposes of public dissemination to adequate quality control measures. In drafting the material to be disseminated, the Lead Component should review and verify the data submitted by the agencies, as necessary and appropriate. ONDCP also originates information based on research, assessments, and other efforts supporting drug policy development. The Lead Component should review and verify the data, as necessary and appropriate. Underlying information upon which the disseminated material is based may be subject to these guidelines only if that information is published by ONDCP. Being subject to these guidelines does not necessarily mean that the material published by ONDCP is a policy statement of the U.S. government. ONDCP contracts with organizations to conduct research in support of drug policy, but their results are not influenced by ONDCP policy. Each Component that disseminates information should maintain verification files of materials that it originates.

3. In seeking to assure the “objectivity” and “utility” of the information it disseminates, ONDCP should generally follow a basic clearance process coordinated by the Lead Component drafting information intended for dissemination. The quality control process places responsibility for action upon the Lead Component. The Lead Component is encouraged to consult with all Components throughout ONDCP having substantial interest or expertise in the material proposed to be disseminated. Where appropriate, substantive input also should be sought from other offices within the Executive Office of the President (EOP), other government agencies, non-government organizations, and the public.

4. The Lead Component should consider the uses of the information from both the perspective of ONDCP and the public. When it is determined that the transparency of information is relevant for assessing the information's usefulness from the public's perspective, the Lead Component should ensure that transparency is appropriately addressed.

5. When the Lead Component determines that the information it will disseminate is influential scientific, financial, or statistical information, extra care should be taken to include a high degree of transparency about data and methods to meet the Government-wide Guidelines' requirement for the reproducibility of such information. In this context, a high degree of transparency for published information means that the methodology used to derive the results is readily understandable to persons experienced in the appropriate field of study. In determining the appropriate level of transparency, the Lead Component should consider the types of data that can practicably be subjected to a reproducibility requirement given ethical, feasibility, and confidentiality constraints. In making this determination, the Lead Component should hold analytical results to an even higher standard than original data.

6. When the Lead Component determines that the information it will disseminate is influential scientific, financial, or statistical information, it should assure reproducibility according to commonly accepted scientific, financial, or statistical standards. In situations where public access to the data will not occur, the Lead Component should apply especially rigorous robustness checks to analytic results and document what checks were undertaken. Also, in such cases, the Lead Component should disclose the specific data sources that have been used and the specific quantitative methods and assumptions that have been employed.

7. The Component responsible for the dissemination of information should generally take the following basic steps to assure the “objectivity” and “utility” of the information to be disseminated:

a. Preparing a draft of the document after consulting the necessary parties, including government and non-government sources, as appropriate;

b. Determining/assuring accuracy and completeness of source data;

c. Determining the expected uses by the government and public;

d. Determining necessary clearance points;

e. Determining where the final decision shall be made;

f. Determining whether peer review would be appropriate and, if necessary, coordinating such review;

g. Obtaining clearances; and

h. Overcoming delays and, if necessary, presenting the matter to higher authority.

8. Hard-copy public dissemination of information and all information published on ONDCP's website www.whitehousedrugpolicy.gov shall occur only after clearances are obtained from all appropriate Components and, as appropriate, the Office of the Chief-of-Staff.

9. The quality control procedures followed by ONDCP should be determined by the nature of the information and the manner of its distribution. Any information collected by ONDCP and subject to the Paperwork Reduction Act should be collected, maintained, and used in a manner consistent with ONDCP information quality standards. The ONDCP clearance package will demonstrate that the proposed collection of information will result in information that will be collected, maintained, and used in a way consistent with the Government-wide Guidelines and ONDCP guidelines.

10. These guidelines focus on procedures for the “dissemination” of “information,” as those terms are defined herein. Accordingly, procedures specifically applicable to forms of communication outside the scope of these guidelines, such as those for correspondence or press releases, among others, are not included.

Conclusion: ONDCP will maximize the quality of the information it disseminates, in terms of objectivity and utility, first by looking for input from a range of sources and perspectives, to the extent practicable under the circumstances, and second by subjecting draft materials to a review process involving as many Components and offices as may be in a position to offer constructive input, as well as other offices within the Executive Office of the President and other government agencies.

B. Integrity of Information

1. “Integrity” refers to the security of information—protection of the information from unauthorized, unanticipated, or unintentional modification—to prevent information from being compromised through corruption or falsification.

2. Within the Executive Office of the President (EOP), the Office of Administration has substantial responsibility for ensuring the “integrity” of information as defined in these guidelines. ONDCP also has a Management and Administration Office that coordinates and works with the EOP Office of Administration to ensure the integrity of information. These offices implement and maintain new computer software and hardware systems and provide operational support for systems and system users.

3. Computer security is the responsibility of the EOP Office of Administration's Chief Information Officer, Information Assurance Directorate. This Office oversees all matters relating to information integrity, including the design and implementation of the security architecture for the EOP, periodic audits of security architecture components, and review and approval of changes to the technical baseline. Per law and ONDCP policy, EOP's IT security policy, procedures, and controls are risk-based, cost-effective, and incorporated into the lifecycle planning of every IT investment. Additionally, the Office: Assesses risks to its systems and implements appropriate security controls; reviews annually the security of its systems; and develops plans to remediate all security weaknesses found in independent evaluations and other security audits and reviews.

4. As an agency under the EOP, ONDCP is an integral part of the overall EOP network, and is an active participant in all aspects of information integrity at EOP. ONDCP adheres to both law and ONDCP IT security policies, along with EOP security policies and operational processes for the protection of ONDCP's data and information. This includes ensuring that controls to protect the security of information (and the integrity of information) are risk-based, cost-effective, and incorporated into the life-cycle planning of every IT investment. ONDCP's systems are reviewed annually in accordance with existing law and policy and corrective action plans are developed to address all security weaknesses, such as integrity issues.

Section II. Requests for Correction of Information Publicly Disseminated by the Office of National Drug Control Policy

ONDCP works continuously to be responsive to users of its information and to ensure quality. In furtherance of these objectives, when ONDCP receives any information from the public that raises questions about the quality of the information it has disseminated, ONDCP duly considers corrective action.

1. Persons seeking to correct information affecting them that was publicly disseminated by ONDCP may submit such requests to the ONDCP Chief of Staff, addressed to the Office of National Drug Control Policy, Executive Office of the President, Washington, DC 20503. A member of the public who seeks correction of information under these ONDCP guidelines as the burden of proof with respect to the necessity for correction as well as with respect to the type of correction requested. Requests for correction must include:

a. A statement that the communication is a Petition for Correction under the ONDCP Information Quality Guidelines;

b. Identification of the ONDCP information or ONDCP information dissemination product, and the specific aspect(s) thereof, that is the subject of the petition;

c. A description of how the information does not comply with the ONDCP guidelines or the Government-wide Guidelines and how they are affected by the information;

d. All supporting evidence upon which the petitioner believes provides a persuasive case and all supporting documentation necessary to resolve the complaint; and the specific corrective action sought, including (if applicable) temporary corrective action pending full resolution of the complaint.

2. If the information disseminated by ONDCP and contested by an affected person was previously disseminated by another Federal agency in virtually identical form, then the complaint should be directed to the originating agency.

3. Requests will be received by the ONDCP Chief of Staff. Typically, requests raising substantive issues will be forwarded to the Component within ONDCP responsible for the subject area.

4. These guidelines apply only to requests submitted as outlined above. These guidelines will not be applied to any other form of request and also may not be applied to a request submitted consistent with the procedures outlined above, if ONDCP determines it is not submitted by an affected person for the correction of publicly disseminated information of the Office of National Drug Control Policy.

5. If ONDCP determines that a request is not covered by these guidelines, it will so advise the requester within 60 days, unless there is a reasoned basis for an extension. If a request is deemed frivolous, no response will be made.

6. For covered requests, the Component reviewing the request will give the request due consideration, including a review of the disseminated information at issue and other materials, as appropriate. Where the reviewing Component or office determines that the information publicly disseminated by ONDCP warrants correction, it should consider appropriate corrective measures recognizing the potential implications for ONDCP and the United States.

7. When considering covered requests to determine whether a corrective action is appropriate, the reviewing Component may consider the following factors:

a. The significance of the information involved, and

b. The nature and extent of the request and the public benefit of making the requested correction.

8. If ONDCP determines that a request is covered by these guidelines, but that corrective action is unnecessary or is otherwise inappropriate, ONDCP will notify the requestor of its determination within 60 days, unless there is a reasoned basis for an extension.

9. If ONDCP determines that a request is covered by these guidelines and that corrective action is appropriate, it will notify the requestor of its determination and what action has been or will be taken within 60 days, unless there is a reasoned basis for an extension. In which case, ONDCP will inform the requestor of the extension, providing its reasons for the extension and an estimated decision date. Subject to applicable law, rules and regulations, corrective measures may be taken through a number of forms, including (but not limited to): Personal contacts via letter or telephone, form letters, press releases or postings on the ONDCP website, www.whitehousedrugpolicy.gov, to correct a widely disseminated error or address a frequently raised request. Corrective measures, where appropriate, should be designed to provide reasonable notice to affected persons of such correction.

10. In cases where ONDCP disseminates information for public comment prior to disseminating the final product, requests for correction of information will be considered prior to disseminating the final product in those cases where ONDCP has determined that an earlier response would not unduly delay dissemination of the product and the requestor has shown a reasonable likelihood of suffering actual harm without the earlier response.

Section III. Procedures for Requesting Reconsideration

1. The following procedures are available to an affected person who has filed a covered request for correction of public information in accordance with section II, above; who received notice from the ONDCP Chief of Staff of ONDCP's determination; and who believes that the ONDCP did not take appropriate corrective action. Requests determined by ONDCP to be not covered by the guidelines and requests determined to be frivolous will not be reconsidered under these provisions. These procedures apply to information disseminated by ONDCP on or after October 1, 2002, regardless of when the information was first disseminated.

2. To request reconsideration, persons should clearly indicate that the communication is a “Request for Reconsideration;” should reference the ONDCP Information Quality Guidelines; and should include a copy of the request for correction previously submitted to ONDCP and ONDCP's response. Resubmission should be made to the ONDCP Chief-of-Staff by mail using the contact information in section II, paragraph 1, above. Requests for Reconsideration must be submitted within thirty (30) days of the date of ONDCP's notification to the requester of the disposition of the underlying request for correction.

3. ONDCP's Chief of Staff or a delegee thereof will consider the request for reconsideration, applying the standards and procedures set out in section II, above and will make a determination regarding the request. In most cases, the requestor will be notified of the determination and, if appropriate, the corrective action to be taken, within 60 days. If the request for reconsideration requires more than 60 days, ONDCP will inform the requestor of the extension, providing its reasons for the extension and an estimated decision date. ONDCP will give reasonable notice to affected persons of any corrections made.

Section IV. Definitions

1. “Affected” persons are those who may benefit or be harmed by the disseminated information. This includes both: a. Persons seeking to address information about themselves or about other persons to whom they are related or associated; and b. persons who use the information.

2. “Dissemination” means agency initiated or sponsored distribution of information to the public (see 5 CFR 1320.3(d) “Conduct or Sponsor”). Dissemination does not include the pass-through of public filings or other information received from third-parties by ONDCP and made available for public review through website posting or other means, without ONDCP's official endorsement of its content. However, these guidelines may apply to third-party information adopted or endorsed by ONDCP, or used to formulate guidance or other ONDCP decision or position.

In addition, dissemination does not include distributions of information or other materials that are:

a. Intended for government employees or agency contractors or grantees;

b. Intended for U.S. Government agencies;

c. Produced in responses to requests for agency records under the Freedom of Information Act, the Privacy Act, the Federal Advisory Committee Act or similar law;

d. Correspondence or other communication limited to individuals or to other persons, within the meaning of paragraph 7, below; or

e. Communications such as press releases, interviews, speeches, and similar statements containing information that ONDCP or another Federal agency has previously disseminated in compliance with the Government-wide Guidelines or the ONDCP guidelines; or

f. Documents (e.g., guidance, bulletins, policy directives) intended only for inter-agency And intra-agency communications.

Also excluded from the definition are archival records; public filings; responses to subpoenae or compulsory document productions; or documents prepared and released in the context of adjudicative processes. These guidelines do not impose any additional requirements on agencies during adjudicative proceedings and do not provide parties to such adjudicative proceedings any additional rights of challenge or appeal.

3. “Influential,” when used in the phrase “influential scientific, financial, or statistical information,” refers to disseminated information that ONDCP determines will have a clear and substantial impact on important public policies or important private sector decisions.

4. “Information,” for purposes of these guidelines, including the administrative mechanism described in sections II and III, above, means any communication or representation of facts or data, in any medium or form, including textual, numerical, graphic, cartographic, narrative, or audiovisual forms. This definition does not include:

a. Opinions or policy, where the presentation makes clear that the statements are subjective opinions, rather than facts. Underlying information upon which the opinion or policy is based may be subject to these guidelines only if that information is published by ONDCP;

b. Information originated by, and attributed to, non-ONDCP sources, provided ONDCP does not expressly rely upon it. Examples include: non-U.S. Government information reported and duly attributed in materials prepared and disseminated by ONDCP; hyperlinks on ONDCP's website to information that others disseminate; and reports of advisory committees published on ONDCP's website;

c. Statements related solely to the internal personnel rules and practices of ONDCP and other materials produced for ONDCP employees, contractors, or agents;

d. Descriptions of the agency, its responsibilities and its organizational components;

e. Statements, the modification of which might cause harm to the national security, including harm to the national defense or foreign relations of the United States;

f. Statements of Administration policy; however, any underlying information published by ONDCP upon which a statement is based may be subject to these guidelines;

g. Testimony or comments of ONDCP officials before courts, administrative bodies, Congress, or the media;

h. Investigatory material compiled pursuant to U.S. law or for law enforcement purposes in the United States.

5. “Integrity” refers to the security of information—protection of the information from unauthorized access or revision, to prevent the information from being compromised through corruption or falsification.

6. “Objectivity” is a measure of whether disseminated information is accurate, reliable, and unbiased and whether disseminated information is being presented in an accurate, clear, complete, and unbiased manner.

7. “Person” means an individual, partnership, association, corporation, business trust, or legal representative, an organized group of individuals, a regional, national, State, territorial, tribal, or local government or branch thereof, or a political subdivision of a State, territory, tribal, or local government or a branch of a political subdivision, or an international organization;

8. “Quality” is an encompassing term comprising utility, objectivity, and integrity. Therefore, the guidelines sometimes refer these four statutory terms, collectively, as “quality”

9. “Utility” refers to the usefulness of the information to its intended users, including the public.

Dated: October 1, 2002.
Daniel Schecter,
Chief of Staff.

[FR Doc. 02-26867 Filed 10-21-02; 8:45 am]

BILLING CODE 3180-02-P